Title 3—

The President

Proclamation 7350 of October 2, 2000

To Implement the African Growth and Opportunity Act and To Designate Eritrea as a Beneficiary Developing Country for Purposes of the Generalized System of Preferences

By the President of the United States of America

A Proclamation

1. Section 111(a) of the African Growth and Opportunity Act (Title I of Public Law 106-200) (AGOA) amends Title V of the Trade Act of 1974, as amended (the “1974 Act”), to provide, in new section 506A(a) (19 U.S.C. 2466a(a)), that the President is authorized to designate countries listed in section 107 of the AGOA as “beneficiary sub-Saharan African countries.”

2. Section 112(a) of the AGOA (19 U.S.C. 3721(a)) provides that eligible textile and apparel articles that are imported directly into the customs territory of the United States from a beneficiary sub-Saharan African country shall enter the United States free of duty and free of quantitative limitations, provided that the country has satisfied the requirements of section 113(a) of the AGOA (19 U.S.C. 3722(a)) relating to the establishment of procedures to protect against unlawful transshipments, and section 113(b)(1)(B) of the AGOA (19 U.S.C. 3722(b)(1)(B)) relating to the implementation of procedures and requirements similar to those in chapter 5 of the North American Free Trade Agreement (NAFTA).

3. Section 112(b)(3)(B) of the AGOA (19 U.S.C. 3721(b)(3)(B)) provides special rules for certain apparel articles imported from “lesser developed beneficiary sub-Saharan African countries.”

4. Section 112(c) of the AGOA (19 U.S.C. 3721(c)) provides that the President shall eliminate the existing quotas on textile and apparel articles imported into the United States (a) from Kenya within 30 days after that country adopts an effective visa system to prevent unlawful transshipment of textile and apparel articles and the use of counterfeit documents relating to the importation of the articles into the United States, and (b) from Mauritius within 30 days after that country adopts such a visa system.

5. In order to implement the tariff treatment provided under the AGOA, it is necessary to modify the Harmonized Tariff Schedule of the United States (HTS), thereby incorporating the substance of the relevant provisions of the AGOA.

6. Sections 501 and 502 of the 1974 Act (19 U.S.C. 2461 and 2462) authorize the President to designate countries as beneficiary developing countries for purposes of the Generalized System of Preferences (GSP).

7. Section 604 of the 1974 Act (19 U.S.C. 2483) authorizes the President to embody in the HTS the substance of the relevant provisions of that Act, and of other acts affecting import treatment, and actions thereunder, including the removal, modification, continuance, or imposition of any rate of duty or other import restriction.

8. I have determined that it is appropriate to authorize the United States Trade Representative (USTR) to perform the functions specified in sections 112(c) and 113(b)(1)(B) of the AGOA and to make the findings identified in section 113(a) of the AGOA and to perform certain functions under section 604 of the 1974 Act.

9. For Sierra Leone, I have determined that it is appropriate to authorize the USTR to determine the effective date of its designation as a beneficiary sub-Saharan African country.

NOW, THEREFORE, I, WILLIAM J. CLINTON, President of the United States of America, acting under the authority vested in me by the Constitution and the laws of the United States, including section 301 of title 3, United States Code, sections 111, 112, and 113 of the AGOA, and sections 501, 502, 506A, and 604 of the 1974 Act, do proclaim that:

(1) In order to provide for the preferential treatment provided for in section 112(a) of the AGOA, the HTS is modified as provided in the Annex to this proclamation.

(2) The following countries are designated as beneficiary sub-Saharan African countries pursuant to section 506A(a) of the 1974 Act:

Republic of Benin

Republic of Botswana

Republic of Cape Verde

Republic of Cameroon

Central African Republic

Republic of Chad

Republic of Congo

Republic of Djibouti

State of Eritrea

Ethiopia

Gabonese Republic

Republic of Ghana

Republic of Guinea

Republic of Guinea-Bissau

Republic of Kenya

Kingdom of Lesotho

Republic of Madagascar

Republic of Malawi

Republic of Mali

Islamic Republic of Mauritania

Republic of Mauritius

Republic of Mozambique

Republic of Namibia

Republic of Niger

Federal Republic of Nigeria

Republic of Rwanda

Democratic Republic of São Tomé and Principe

Republic of Senegal

Republic of Seychelles

Republic of Sierra Leone

Republic of South Africa

United Republic of Tanzania

Republic of Uganda

Republic of Zambia

(3) For purposes of section 112(b)(3)(B) of the AGOA, the following designated beneficiary sub-Saharan African countries shall be considered lesser developed beneficiary sub-Saharan African countries:

Republic of Benin

Republic of Cape Verde

Republic of Cameroon

Central African Republic

Republic of Chad

Republic of Congo

Republic of Djibouti

State of Eritrea

Ethiopia

Republic of Ghana

Republic of Guinea

Republic of Guinea-Bissau

Republic of Kenya

Kingdom of Lesotho

Republic of Madagascar

Republic of Malawi

Republic of Mali

Islamic Republic of Mauritania

Republic of Mozambique

Republic of Niger

Federal Republic of Nigeria

Republic of Rwanda

Democratic Republic of São Tomé and Principe

Republic of Senegal

Republic of Sierra Leone

United Republic of Tanzania

Republic of Uganda

Republic of Zambia

(4) The USTR is authorized to determine whether each designated beneficiary sub-Saharan African country has satisfied the requirements of section 113(a) of the AGOA relating to the establishment of procedures to protect against unlawful transshipments and section 113(b)(1)(B) of the AGOA relating to the implementation of procedures and requirements similar in all material respects to the relevant procedures and requirements under chapter 5 of the NAFTA. The determination or determinations of the USTR under this paragraph shall be set forth in a notice or notices that the USTR shall cause to be published in the Federal Register. Such notice or notices shall modify the HTS by listing the countries that satisfy the requirements of sections 113(a) and 113(b)(1)(B) of the AGOA. To implement such determination or determinations, the USTR is authorized to exercise the authority provided to the President under section 604 of the 1974 Act to embody modifications and technical or conforming changes in the HTS.

(5) The USTR is authorized to determine whether Kenya and Mauritius have satisfied the requirements of section 112(c) of the AGOA. The determination or determinations of the USTR under this paragraph shall be set forth in a notice or notices that the USTR shall cause to be published in the Federal Register. Within 30 days after any such determination by the USTR, the USTR shall cause the existing quotas on textile and apparel articles imported into the United States from such country to be eliminated by direction to the appropriate agencies or departments. To implement such determination or determinations, the USTR is authorized to exercise the authority provided to the President under section 604 of the 1974 Act to embody modifications and technical or conforming changes in the HTS.

(6) The USTR is authorized to determine the effective date of the designation of the Republic of Sierra Leone as a beneficiary sub-Saharan African country and, therefore, the date upon which Sierra Leone will be considered a lesser developed beneficiary sub-Saharan African country. The determination of the USTR under this paragraph shall be set forth in a notice that the USTR shall cause to be published in the Federal Register. To implement such determination, the USTR is authorized to exercise the authority provided to the President under section 604 of the 1974 Act to embody modifications and technical or conforming changes in the HTS.

(7) Pursuant to sections 501 and 502 of the 1974 Act, Eritrea is designated as a beneficiary developing country for purposes of the GSP.

(8) In order to reflect in the HTS the designation of Eritrea as a beneficiary developing country under the GSP, general note 4(a) to the HTS is modified by inserting in alphabetical sequence “Eritrea” in the list of independent countries.

(9) Any provisions of previous proclamations and Executive orders that are inconsistent with the actions taken in this proclamation are superseded to the extent of such inconsistency.

(10) This proclamation is effective on the date of signature of this proclamation, except that (a) the modifications to the HTS made by the Annex to this proclamation, as further modified by any notice to be published in the Federal Register as described in paragraph 4 of this proclamation, shall be effective on the date announced by the USTR in such notice, and (b) the designation of the Republic of Sierra Leone as a beneficiary sub-Saharan African country shall be effective on the date announced by the USTR in the Federal Register.

IN WITNESS WHEREOF, I have hereunto set my hand this second day of October, in the year of our Lord two thousand, and of the Independence of the United States of America the two hundred and twenty-fifth.

wj

Billing code 3195-01-P

[FR Doc. 00-25692

Filed 10-3-00; 11:03 am]

Billing code 3190-01-C